DEPARTMENT OF AGRICULTURE

Forest Service

California Coast Provincial Advisory Committee (PAC)

AGENCY: Forest Service, USDA.

ACTION: Notice of meeting.

SUMMARY: The California Coast Provincial Advisory Committee (PAC) will meet on December 5 and 6, 2001, at the Konocti Harbor Resort in Kelseyville, California. The purpose of the meeting is to discuss issues relating to implementing the Northwest Forest Plan.

DATES: The meeting will be held December 5 and 6, 2001. A field tour of post Fork Fire burned area rehabilitation will be held on December 5, 2001, from 10 a.m. until 4 p.m. The business meeting will be held from 8:30 a.m. to 4 p.m. on December 6, 2001.

ADDRESSES: The December 5 field tour will begin at the Upper Lake Ranger Station, Mendocino National Forest, located at 10025 Elk Mountain Road in Upper Lake, CA. The December 6 business meeting will be held at the Konocti Harbor Resort, Pomo and Lanai Conference Rooms, 8727 Soda Bay Road, Kelseyville, CA.

FOR FURTHER INFORMATION CONTACT: Phebe Brown, Committee Coordinator, USDA, Mendocino National Forest, 825 N. Humboldt Avenue, Willows, CA, 95988, (530) 934-3316; EMAIL pybrown@fs.fed.us.

SUPPLEMENTARY INFORMATION: Agenda items to be covered include: (1) Distribute and discuss Province watershed summaries/fish map; (2) Regional Ecosystem Office (REO) update; (3) Discuss REO executive director remarks at joint PAC meeting; (4) Presentation on the Mendocino National Forest implementation of the northern spotted owl Baseline Study management recommendations; (5) Report on State northern California watershed planning activities and opportunities for PAC coordination; (6) Next year's meeting dates; and (7) Public comment. The meeting is open to the public. Public input opportunity will be provided and individuals will have the opportunity to address the Committee at that time.

Dated: November 14, 2001.
James D. Fenwood,
Forest Supervisor.

[FR Doc. 01-29330 Filed 11-23-01; 8:45 am]

BILLING CODE 3410-11-M